DEPARTMENT OF COMMERCE

International Trade Administration

Notice of Scope Rulings

AGENCY: Import Administration, International Trade Administration, Department of Commerce.

DATES: Effective Date: August 25, 2010.

SUMMARY: The Department of Commerce (“Department”) hereby publishes a list of scope rulings completed between January 1, 2010, and March 31, 2010. In conjunction with this list, the Department is also publishing a list of requests for scope rulings and anticircumvention determinations pending as of March 31, 2010. We intend to publish future lists after the close of the next calendar quarter.

FOR FURTHER INFORMATION CONTACT: Julia Hancock, AD/CVD Operations, China/NME Group, Import Administration, International Trade Administration, U.S. Department of Commerce, 14th Street and Constitution Avenue, NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on July 1, 2010. See Notice of Scope Rulings, 75 FR 38081 (July 1, 2010). This current notice covers all scope rulings and anticircumvention determinations completed by Import Administration between January 1, 2010, and March 31, 2010, inclusive, and it also lists any scope or anticircumvention inquiries pending as of March 31, 2010. As described below, subsequent lists will follow after the close of each calendar quarter.

Scope Rulings Completed Between January 1, 2010, and March 31, 2010

People's Republic of China

A-570-804: Sparklers from the People's Republic of China. Requestor: American Promotional Events, Inc. (“American Promotional”); American Promotional's Sparkling Tree is outside the scope of the antidumping duty order; March 22, 2010.

A-570-891: Hand Trucks from the People's Republic of China. Requestor: E&B Giftware LLC (“E&B Giftware”); E&B Giftware's ML6275C personal luggage cart is within the scope of the antidumping duty order; February 3, 2010.

A-570-891: Hand Trucks from the People's Republic of China. Requestor: Packard Professional Distribution (“Packard”); Packard's foldable hand truck model FHT200 is outside the scope of the antidumping duty order; March 26, 2010.

A-570-901: Certain Lined Paper Products from the People's Republic of China. Requestor: Livescribe, Inc. (“Livescribe”); Livescribe's patented dot-patterned paper is outside the scope of the antidumping duty order; March 2, 2010.

A-570-909: Steel Nails from the People's Republic of China. Requestor: Itochu Building Products (“IBP”); IBP's plastic cap roofing nails are within the scope of the antidumping duty order; January 10, 2010.

A-570-922: Raw Flexible Magnets from the People's Republic of China. Requestor: It's Academic; It's Academic's magnet packages are within the scope of the antidumping duty order; March 4, 2010.

A-570-929: Polyethylene Terephthalate (“PET”) Film from the People's Republic of China. Requestor: Coated Fabrics Company (“CFC”); CFC's Amorphous PET (“APET”), Glycol-modified PET (“PETG”), and coextruded APET and with PETG on its outer surfaces (“GAG Sheet”) are outside the scope of the antidumping duty order; January 7, 2010.

Anticircumvention Determinations Completed Between January 1, 2010, and March 31, 2010

None.

Scope Inquiries Terminated Between January 1, 2010, and March 31, 2010

None.

Anticircumvention Inquiries Terminated Between January 1, 2010, and March 31, 2010

None.

Scope Inquiries Pending as of March 31, 2010

Germany

A-428-801: Ball Bearings and Parts from Germany. Requestor: The Schaeffler Group; whether certain ball roller bearings are within the scope of the antidumping duty order, requested April 28, 2009; preliminary ruling issued on January 4, 2010.

A-428-801: Ball Bearings and Parts from Germany. Requestor: Myonic GmbH; whether turbocharger spindle units are within the scope of the antidumping duty order, requested January 11, 2010.

People's Republic of China

A-570-502: Iron Construction Castings from the People's Republic of China. Requestor: National Diversified Sales; whether its grates and frames are within the scope of the antidumping duty order; requested February 12, 2010.

A-570-504: Petroleum Wax Candles from the People's Republic of China. Requestor: Trade Associates Group, Ltd.; whether its candles (multiple designs) are within the scope of the antidumping duty order; requested June 11, 2009.

A-570-504: Petroleum Wax Candles from the People's Republic of China. Requestor: Sourcing International, LLC; whether its flower candles are within the scope of the antidumping duty order; requested June 24, 2009.

A-570-504: Petroleum Wax Candles from the People's Republic of China. Requestor: Candym Enterprises Ltd.; whether its vegetable candles are within the scope of the antidumping duty order; requested November 9, 2009.

A-570-504: Petroleum Wax Candles from the People's Republic of China. Requestor: Sourcing International; whether its candles (multiple designs) are within the scope of the antidumping duty order; requested July 28, 2009.

A-570-504: Petroleum Wax Candles from the People's Republic of China. Requestor: Sourcing International; whether its floral bouquet candles are within the scope of the antidumping duty order; requested August 25, 2009.

A-570-601: Tapered Roller Bearings from the People's Republic of China. Requestor: New Trend Engineering Ltd.; whether its certain wheel hub assemblies are within the scope of the antidumping duty order; requested March 5, 2010.

A-570-601: Tapered Roller Bearings from the People's Republic of China. Requestor: Blackstone OTR LLC and OTR Wheel Engineering, Inc.; whether its wheel hub assemblies are within the scope of the antidumping duty order; requested March 3, 2010.

A-570-806: Silicon Metal from the People's Republic of China. Requestor: Globe Metallurgical Inc.; whether certain silicon metal exported by Ferro-Alliages et Mineraux to the United States from Canada is within the scope of the antidumping duty order; requested October 1, 2008.

A-570-827: Cased Pencils from the People's Republic of China. Requestor: Inspired Design LLC; whether its pedestal pets are within the scope of the antidumping duty order; requested March 4, 2010.

A-570-864: Pure Magnesium in Granular Form from the People's Republic of China. Requestor: ESM Group Inc.; whether atomized ingots are within the scope of the antidumping duty order; initiated April 18, 2007; preliminary ruling issued August 27, 2008.

A-570-868: Folding Metal Tables and Chairs from the People's Republic of China. Requestor: Academy Sports & Outdoors, (“Academy”); whether Academy's bistro sets, consisting of two chairs and a table, are outside the scope of the antidumping duty order; requested January 11, 2010.

A-570-890: Wooden Bedroom Furniture from the People's Republic of China. Requestor: Target Corporation; whether its accent table is within the scope of the antidumping duty order; requested March 18, 2010.

A-570-891: Hand Trucks from the People's Republic of China. Requestor: Northern Tool & Equipment Co.; whether a high-axle torch cart (item #164771) is within the scope of the antidumping duty order; requested March 23, 2007.

A-570-899: Artist Canvas from the People's Republic of China. Requestor: Wuxi Phoenix Artist Materials Co., Ltd.; whether its framed artist canvas is within the scope of the antidumping duty order; requested January 15, 2010.

A-570-899: Artist Canvas from the People's Republic of China. Requestor: Masterpiece Artist Canvas; whether its scrapbooking canvas is within the scope of the antidumping duty order; requested March 20, 2010.

A-570-909: Steel Nails from the People's Republic of China. Requestor: Target Corporation; whether its tool kit is within the scope of the antidumping duty order; requested December 11, 2009.

A-570-922: Raw Flexible Magnets from the People's Republic of China. Requestor: InterDesign; whether its raw flexible magnets are within the scope of the antidumping duty order; requested March 26, 2010.

A-570-932: Steel Threaded Rod from the People's Republic of China. Requestor: Elgin Fastener Group; whether its cold headed double threaded ended bolt is within the scope of the antidumping duty order; requested November 4, 2009.

A-570-941/C-570-942: Kitchen Appliance Shelving and Racks from the People's Republic of China. Requestor: Custom BioGenic Systems, Inc.; whether its inventory control racks are within the scope of the antidumping duty and countervailing orders; requested March 4, 2010.

Multiple Countries

A-533-838/C-533-839/A-570-892: Carbazole Violet Pigment 23 from India and the People's Republic of China. Requestor: Nation Ford Chemical Co., and Sun Chemical Corp.; whether finished carbazole violet pigment exported from Japan is within the scope of the antidumping duty order; requested February 23, 2010.

Anticircumvention Rulings Pending as of March 31, 2010

A-570-849: Certain Cut-to-Length Carbon Steel from the People's Republic of China. Requestor: ArcelorMittal USA, Inc.; Nucor Corporation; SSAB N.A.D., Evraz Claymont Steel and Evraz Oregon Steel Mills; whether certain cut-to-length carbon steel plate from the People's Republic of China, that contain small levels of boron, involve such a minor alteration to the merchandise that is so insignificant and thus are circumventing the antidumping duty order; requested February 17, 2010.

A-570-894: Certain Tissue Paper Products from the People's Republic of China. Requestor: Seaman Paper Company of Massachusetts, Inc.; whether certain imports of tissue paper from Vietnam are circumventing the antidumping duty order; requested February 18, 2010.

A-570-928: Uncovered Innerspring Units from the People's Republic of China. Requestor: Leggett & Platt, Incorporated; whether coils (including individual coils, coil strips, and other made-up articles of innersprings units) and border rods from the People's Republic of China, which are assembled post-importation into innerspring units in the United States, are circumventing the antidumping duty order; requested March 15, 2010.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: July 9, 2010.
Edward C. Yang,
Acting Deputy Assistant Secretary for Antidumping and Countervailing Duty Operations.

[FR Doc. 2010-21018 Filed 8-24-10; 8:45 am]

BILLING CODE 3510-DS-P